FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Federal Insurance and Mitigation Administration, Federal Emergency Management Agency, 500 C Street SW., Washington, DC 20472, (202) 646-3461, or (e-mail) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with Section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act. This rule is categorically excluded from the requirements of 44 CFR part 10, Environmental Consideration. No environmental impact assessment has been prepared.

Regulatory Flexibility Act. The Acting Executive Associate Director, Mitigation Directorate, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) • Elevation in feet (NAVD)
OHIO
Meigs County (Unincorporated Areas) (FEMA Docket No. D-7518)
Village of Middleport, Village of Pomeroy, Village of Racine, Village of Syracuse, and Meigs County (Unincorporated Areas)
Ohio River:
Approximately 2 miles upstream of the downstream county boundary | *576
At the upstream county boundary | *602
Meigs County (Unincorporated Areas)
Little Leading Creek:
Approximately 0.8 mile upstream of the Village of Rutland corporate limits | *578
Approximately 0.9 mile upstream of the Village of Rutland corporate limits | *578
Kerr Run:
Just upstream of the Village of Pomeroy corporate limits | *579
Approximately 250 feet upstream of the Village of Pomeroy corporate limits | *579
Unnamed Tributary to Kerr Run:
Just upstream of the Village of Pomeroy corporate limits | *579
Approximately 50 feet upstream of the Village of Pomeroy corporate limits | *579
Unnamed Tributary to Wolf Run:
Approximately 750 feet upstream of the confluence with Wolf Run | *582
Approximately 950 feet upstream of the confluence with Wolf Run | *582
Rose Creek:
Approximately 0.8 mile upstream of the confluence with the Ohio River | *580
Approximately 1.1 miles upstream of the confluence with the Ohio River | *580
Johns Run:
Approximately 200 feet downstream of State Route 338 | *587
Approximately 0.7 mile upstream of State Route 338 | *587
Groundhog Creek:
Just upstream of State Route 338 | *593
Approximately 1.7 miles upstream of State Route 338 | *593
Sugarcamp Run:
Just upstream of State Route 124 | *601
Approximately 0.8 mile upstream of State Route 124 | *601
Indian Run:
Just upstream of State Route 124 | *602
Approximately 0.9 mile upstream of State Route 124 | *602
Meigs County (Unincorporated Areas)
Maps available for inspection at the Meigs County Courthouse, 100 East Second Street, Pomeroy, Ohio.
Village of Middleport
Maps available for inspection at the Middleport Village Hall, 237 Race Street, Middleport, Ohio.
Village of Pomeroy
Maps available for inspection at the Pomeroy Village Hall, 320 East Main Street, Pomeroy, Ohio.
Village of Racine
Maps available for inspection at the Racine Village Hall, 405 Main Street, Racine, Ohio.
Village of Syracuse
Maps available for inspection at the Syracuse Village Hall, 2581 Third Street, Syracuse, Ohio.
———
Scioto County (Unincorporated Areas) (FEMA Docket No. D-7516)
Scioto County
(Unincorporated Areas), City of Portsmouth
Ohio River:
Approximately 1,270 feet downstream of the confluence of Spencer Run | *531
Approximately 4.2 miles downstream of CSX Transportation | *536
Village of Rarden
Rarden Creek:
At Norfolk Southern Railway | *615
At upstream corporate limits | *615
City of Portsmouth
Scioto River:
At downstream corporate limits | *535
At upstream corporate limits | *535
Scioto County (Unincorporated Areas)
Maps available for inspection at the Scioto County Courthouse, 602 7th Street, Room 1, Portsmouth, Ohio.
Village of Rarden
Maps available for inspection at the Rarden City Hall, 1400 Main Street, Rarden, Ohio.
City of Portsmouth
Maps available for inspection at the Portsmouth Municipal Building, 728 2nd Street, Portsmouth, Ohio.
VIRGINIA
Southampton County (Unincorporated Areas) (FEMA Docket No. D-7520)
Southampton County (Unincorporated Areas)
Blackwater River:
At the confluence with Chowan River | *14
Approximately 6,700 feet upstream of State Route 620 (Broadwater Road) | *36
Southampton County (Unincorporated Areas), Town of Courtland
Nottoway River:
At the confluence with Chowan River | *14
Approximately 2,400 feet upstream of Norfolk Franklin & Danville Railroad | *27
Southampton County (Unincorporated Areas)
Maps available for inspection at the Southampton County Administrator's Office, 26022 Administration Center Drive, Courtland, Virginia.
Town of Courtland
Maps available for inspection at the Courtland Town Office, 22219 Meherrin Road, Courtland, Virginia.

(Catalog of Federal Domestic Assistance No. 83.100, “Flood Insurance.”)

Dated: May 15, 2002.
Robert F. Shea,
Acting Administrator, Federal Insurance and Mitigation Administration.

[FR Doc. 02-12654 Filed 5-20-02; 8:45 am]

BILLING CODE 6718-04-P